DEPARTMENT OF TRANSPORTATION

Federal Aviation Administration

14 CFR Part 39

[Docket No. FAA-2014-1045; Directorate Identifier 2014-NM-031-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A310 and Airbus Model A300 B4-600, B4-600R, and F4-600R series airplanes, and Model A300 C4-605R Variant F airplanes (collectively called Model A300-600 series airplanes) series airplanes. This proposed AD was prompted by a report of skin disbonding and damage found on the composite side panel of the rudder, located between the rudder core and skin of a previously repaired area. This proposed AD would require an inspection for disbonding or damage of certain rudders, and related investigative actions and corrective actions if necessary. We are proposing this AD to detect and correct disbonding and damage of the rudder, which could result in reduced structural integrity of the rudder and consequent reduced controllability of the airplane.

DATES: We must receive comments on this proposed AD by March 9, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-1045; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425- 227-1149.

SUPPLEMENTARY INFORMATION:

Comments Invited

We invite you to send any written relevant data, views, or arguments about this proposed AD. Send your comments to an address listed under the ADDRESSES section. Include “Docket No. FAA-2014-1045; Directorate Identifier 2014-NM-031-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2014-0026, dated January 28, 2014 (referred to after this as the Mandatory Continuing Airworthiness Information, or “the MCAI”), to correct an unsafe condition for the specified products. The MCAI states:

A case of skin disbonding was reported on a composite side of a rudder installed on an A310 aeroplane.

The investigation results revealed that this disbonding started from a skin panel area previously repaired in-service in accordance with the Structural Repair Manual (SRM).

The initial damage has been identified as a disbonding between the core and the repaired area. This damage may not be visually detectable and likely propagates during normal operation due to the variation of pressure during ground-air-ground cycles.

This condition, if not detected and corrected, could affect the structural integrity of the rudder, possibly resulting in reduced control of the aeroplane.

For the reasons described above, this [EASA] AD requires a one-time thermography inspection of each repaired rudder or rudder whose maintenance records are incomplete and, depending on findings, accomplishment of applicable corrective and follow-up actions.

Related investigative actions include doing a pulse thermography inspection for disbonding or damage of the left- and right-hand rudder side shells; a core ventilation through the inner skin, an elasticity laminate checker or ultrasonic inspection around the identified repairs in the booster area, and around identified fluid ingress; and a Tap test inspection of the glass fiber reinforced plastic area to identify skin-to-core disbonding and on identified repairs. Corrective actions include repairing or replacing any disbonded or damaged rudder.

Depending on configuration and inspection results, the repetitive inspection intervals are 750 or 1,000 flight cycles; or 500 flight hours or 4 months, whichever occurs later.

You may examine the MCAI in the AD docket on the Internet at http://www.regulations.gov by searching for and locating Docket No. FAA-2014-1045.

Related Service Information

Airbus has issued Service Bulletins A300-55-6050; and A310-55-2051; both Revision 01, dated August 20, 2014. The service information describes procedures for inspecting the left- and right-hand rudder side shells for disbonding or damage, and related investigative actions and corrective actions if necessary. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Difference Between This Proposed AD and the MCAI or Service Information

Airbus Service Bulletins A300-55-6050; and A310-55-2051; both Revision 01, dated August 20, 2014; do not provide corrective action for certain conditions. This proposed AD would require repairing the damage using a method approved by the Manager, International Branch, ANM-116, Transport Airplane Directorate, FAA; or the European Aviation Safety Agency (EASA); or Airbus's EASA Design Organization Approval (DOA).

Costs of Compliance

We estimate that this proposed AD affects 199 airplanes of U.S. registry.

We also estimate that it would take about 4 work-hours per product to comply with the basic requirements of this proposed AD. The average labor rate is $85 per work-hour. Required parts would cost about $0 per product. Based on these figures, we estimate the cost of this proposed AD on U.S. operators to be $67,660, or $340 per product.

We have received no definitive data that would enable us to provide a cost estimate for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2014-1045; Directorate Identifier 2014-NM-031-AD.

(a) Comments Due Date

We must receive comments by March 9, 2015.

(b) Affected ADs

None.

(c) Applicability

This AD applies to all Airbus Model A310-203, -204, -221, -222, -304, -322, -324, and -325 airplanes; Model A300 B4-601, B4-603, B4-620, and B4-622 airplanes; A300 B4-605R and B4-622R airplanes; and A300 F4-605R and F4-622R, and A300 C4-605R Variant F airplanes; certificated in any category.

(d) Subject

Air Transport Association (ATA) of America Code 55, Stabilizers.

(e) Reason

This AD was prompted by a report of skin disbonding and damage found on the composite side panel of the rudder, located between the rudder core and skin of a previously repaired area. We are issuing this AD to detect and correct disbonding and damage of the rudder, which could result in reduced structural integrity of the rudder, and consequent reduced controllability of the airplane.

(f) Compliance

Comply with this AD within the compliance times specified, unless already done.

(g) Rudder Assembly Identification

Within 4 months after the effective date of this AD: Check the applicable rudder maintenance records to determine if any composite side shell panel repair has been done since first installation of the rudder, and do the applicable actions specified in paragraph (g)(1) or (g)(2) of this AD at the time specified in paragraph 1.E., “Compliance,” of Airbus Service Bulletin A300-55-6050; or A310-55-2051; both Revision 01, dated August 20, 2014; as applicable, except as provided by paragraph (j)(3) of this AD.

(1) If a repair is identified based on the maintenance records: Perform a rudder thermography inspection of the repaired area only for disbonding or damage, in accordance with the Accomplishment Instructions of Airbus Service Bulletin A300-55-6050; or A310-55-2051; both Revision 01, dated August 20, 2014; as applicable.

(2) If the rudder maintenance records are unavailable or incomplete: Perform a rudder thermography inspection of the complete side shell panels to identify and mark the repair locations for disbonding or damage, in accordance with the Accomplishment Instructions of Airbus Service Bulletin A300-55-6050; or A310-55-2051; both Revision 01, dated August 20, 2014; as applicable.

(h) Related Investigative Actions/Repair or Replace

If any disbonding or damage is found during any inspection required by paragraph (g)(1) or (g)(2) of this AD: Do the actions required by paragraphs (h)(1) and (h)(2) of this AD, as applicable.

(1) At the time specified in paragraph 1.E., “Compliance,” of Airbus Service Bulletin A300-55-6050; or A310-55-2051; both Revision 01, dated August 20, 2014; as applicable, except as required by paragraph (j)(2) of this AD; do the applicable related investigative actions identified in Tables 3, 4A, 4B, 4C, 4D, and 5 of paragraph 1.E., “Compliance,” of Airbus Service Bulletin A300-55-6050; or A310-55-2051; both Revision 01, dated August 20, 2014; as applicable, to determine the type and extent of the disbonding or damage, in accordance with the Accomplishment Instructions of Airbus Service Bulletin A300-55-6050; or A310-55-2051; both Revision 01, dated August 20, 2014; as applicable. Repeat the applicable inspection at the time specified in paragraph 1.E., “Compliance” of Airbus Service Bulletin A300-55-6050; or A310-55-2051; both Revision 01, dated August 20, 2014; as applicable.

(2) Before further flight: Repair any disbonding or damage found during any inspection required by paragraph (h)(1) of this AD, or replace any affected rudder, as applicable, in accordance with the Accomplishment Instructions Airbus Service Bulletin A300-55-6050; or A310-55-2051; both Revision 01, dated August 20, 2014; as applicable, except as required by paragraph (j)(4) of this AD.

(i) Repair Using SRM Procedure Not Allowed

As of the effective date of this AD, do not accomplish a composite side shell panel repair on any rudder using an SRM procedure identified in Figure A-GBBAA (Sheet 01 and 02) or Figure A-GBCAA (Sheet 02) of Airbus Service Bulletin A310-55-2051; or Figure A-GBBAA (Sheet 01, 02, or 03) or Figure A-GBCAA (Sheet 02 or 04) of Airbus Service Bulletin A300-55-6050; as applicable.

(j) Exceptions to Service Information

(1) Where Airbus Service Bulletins A300-55-6050; and A310-55-2051; both dated September 11, 2012; specify a compliance time “from original service bulletin issue date,” this AD requires compliance within the specified compliance time after the effective date of this AD.

(2) Where Airbus Service Bulletins A300-55-6050; and A310-55-2051 both dated September 11, 2012; specify to contact Airbus for appropriate action: Before further flight, repair using a method approved by the Manager, International Branch, ANM-116, Transport Airplane Directorate, FAA; or the European Aviation Safety Agency (EASA); or Airbus's EASA Design Organization Approval (DOA).

(3) Airplanes on which a rudder is installed having a serial number that is not in the range HF-1005 through HF-1323, inclusive; HF-1325, HF-1327, HF-1329, HF-1331, HF-1332, HF-1340, TS-1324, TS-1326, TS-1328, TS-1330, TS-1333 through TS-1339, inclusive; TS-1341 through TS-1420, inclusive; or TS-2001 through TS-2197, inclusive; are not affected by the requirements of paragraphs (g) and (h) of this AD, provided that no repairs have been done on the composite side shell panel of that rudder since installation in accordance with the applicable structural repair manual (SRM).

(4) The compliance time for the initial detailed inspection of the restored area for loose or lost tape identified in Tables 3 and 4 of paragraph 1.E., “Compliance,” of Airbus Service Bulletins A300-55-6050 and A310-55-2051, both Revision 01, dated August 20, 2014; specifies “within 500 FH or 4 months after closing holes.” This AD requires this action within 500 flight hours or 4 months, whichever occurs later after the holes are closed.

(k) Credit for Previous Actions

This paragraph provides credit for actions required by paragraphs (g) and (h) of this AD, if those actions were performed before the effective date of this AD using Airbus Service Bulletin A300-55-6050; or A310-55-2051; both dated September 11, 2012; as applicable; which are not incorporated by reference in this AD.

(l) Parts Installation Limitations

As of the effective date of this AD, no person may install any affected rudder on any airplane, unless the actions required by paragraphs (g) and (h) of this AD have been accomplished.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(n) Related Information

(1) Refer to Mandatory Continuing Airworthiness Information EASA Airworthiness Directive 2014-0026, dated January 28, 2014, for related information. This MCAI may be found in the AD docket on the Internet at http://www.regulations.gov by searching for and locating Docket No. FAA-2014-1045.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on January 13, 2015.
John P. Piccola,
Acting Manager, Transport Airplane Directorate, Aircraft Certification Service.

[FR Doc. 2015-00946 Filed 1-22-15; 8:45 am]

BILLING CODE 4910-13-P